DEPARTMENT OF VETERANS AFFAIRS

Joint Biomedical Laboratory Research and Development and Clinical Science Research and Development Services Scientific Merit Review Board; Notice of Meetings

The Department of Veterans Affairs (VA) gives notice under the Public Law 92-463 (Federal Advisory Committee Act) that the panels of the Joint Biomedical Laboratory Research and Development and Clinical Science Research and Development Services Scientific Merit Review Board will meet from 8 a.m. to 5 p.m. on the dates indicated below:

Panel | Date(s) | Location
Hematology | May 23, 2012 | Sheraton Suites—Old Town Alexandria.
Mental Health and Behavioral Science-B | May 24, 2012 | Sheraton Suites—Old Town Alexandria.
Neurobiology-D | May 24-25, 2012 | Sheraton Suites—Old Town Alexandria.
Immunology-A | May 30, 2012 | Sheraton Suites—Old Town Alexandria.
Mental Health and Behavioral Science-A | May 31, 2012 | Sheraton Suites—Old Town Alexandria.
Surgery | May 31, 2012 | *VA Central Office.
Endocrinology-B | June 1, 2012 | *VA Central Office.
Neurobiology-A | June 1, 2012 | Sheraton Suites—Old Town Alexandria.
Clinical Application of Genetics | June 1, 2012 | *VA Central Office.
Cardiovascular Studies | June 4, 2012 | Sheraton Suites—Old Town Alexandria.
Cellular and Molecular Medicine | June 4, 2012 | *VA Central Office.
Infectious Diseases-A | June 4, 2012 | Sheraton Suites—Old Town Alexandria.
Epidemiology | June 6, 2012 | *VA Central Office.
Clinical Research Program | June 7-8, 2012 | Sheraton Suites—Old Town Alexandria.
Infectious Diseases-B | June 8, 2012 | Sheraton Suites—Old Town Alexandria.
Neurobiology-E | June 8, 2012 | *VA Central Office.
Pulmonary Medicine | June 8, 2012 | Sheraton Suites—Old Town Alexandria.
Gastroenterology | June 11-12, 2012 | Sheraton Suites—Old Town Alexandria.
Endocrinology-A | June 14-15, 2012 | Sheraton Suites—Old Town Alexandria.
Neurobiology-C | June 14-15, 2012 | L'Enfant Plaza Hotel.
Oncology-A | June 14-15, 2012 | Sheraton Suites—Old Town Alexandria.
Nephrology | June 15, 2012 | Sheraton Suites—Old Town Alexandria.
Eligibility | July 23, 2012 | Sheraton Suites—Old Town Alexandria.
The addresses of the hotel and VA Central Office are:
L'Enfant Plaza Hotel, 480 L'Enfant Plaza SW., Washington, DC.
Sheraton Suites—Old Town Virginia, 801 North Saint Asaph Street, Alexandria, Virginia.
*VA Central Office, 131 M Street NE., Washington, DC.
*Teleconference.

The purpose of the Board is to provide advice on the scientific quality, budget, safety and mission relevance of investigator-initiated research proposals submitted for VA merit review consideration. Proposals submitted for review by the Board involve a wide range of medical specialties within the general areas of biomedical, behavioral and clinical science research.

The panel meetings will be open to the public for approximately one-half hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with 5 U.S.C., 552b(c)(6) and (9)(B).

Those who plan to attend the general session or would like to obtain a copy of minutes of the panel meetings and rosters of the members of the panels should contact LeRoy G. Frey, Ph.D., Chief, Program Review (10P9B), Department of Veterans Affairs, 810 Vermont Avenue NW., Washington, DC 20420, or call (202) 443-5674 or by email at Leroy.frey@va.gov.

By Direction of the Secretary.
Dated: March 29, 2012.
Vivian Drake,
Committee Management Officer.

[FR Doc. 2012-8037 Filed 4-3-12; 8:45 am]

BILLING CODE P